DEPARTMENT OF STATE

[Public Notice 6742]

Industry Advisory Panel: Notice of Charter Renewal

Summary: The Under Secretary for Management has approved the renewal of the charter for the Bureau of Overseas Buildings Operations' Industry Advisory Panel for an additional two-year period. The panel meets quarterly in the Harry S Truman Building, U.S. Department of State, located at 2201 C Street, NW., 23rd Street entrance in Washington, DC. The majority of each meeting is devoted to an exchange of ideas between the Department's Bureau of Overseas Buildings Operations' senior management and the panel members on design, operations, security, and building maintenance. The meetings are open to the public and are subject to advance registration and provision of required security information. Procedures for registration are included with each meeting announcement.

If you have any questions, please contact Jonathan Blyth at BlythJJ@state.gov or on (703) 875-4131.

Adam E. Namm,
Acting Director, Bureau of Overseas Buildings Operations, U.S. Department of State.

[FR Doc. E9-25225 Filed 10-19-09; 8:45 am]

BILLING CODE 4710-24-P